FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 010979-061.

Title: Caribbean Shipowners Association.

Parties: CMA CGM, S.A.; Crowley Caribbean Services LLC; Hybur Ltd.; King Ocean Services Limited; Seaboard Marine, Ltd.; Seafreight Line, Ltd.; Tropical Shipping and Construction Company Limited; and Zim Integrated Shipping Services, Ltd.

Filing Party: Wayne R. Rohde, Esq.; Cozen O'Connor, 1627 I Street NW., Washington, DC 20006.

Synopsis: The amendment deletes U.S. Lines Limited as a party to the agreement.

Agreement No.: 012234-001.

Title: NYKCool/Trans Global Shipping Space Charter Agreement.

Parties: NYKCool AB and Trans Global Shipping NV.

Filing Party: David F. Smith, Esq.; Cozen O'Connor; 1627 I Street NW., Suite 1100; Washington, DC 20006.

Synopsis: The amendment changes the name of NYKCool AB to Cool Carriers AB and makes related conforming changes.

Agreement No.: 012235-001.

Title: NYKCool/Trans Global Shipping/CSVV West Coast Agreement.

Parties: CSAV Sud Americana de Vapores S.A.; Cool Carriers AB; and Trans Global Shipping NV.

Filing Party: David F. Smith, Esq.; Cozen O'Connor; 1627 I Street NW., Suite 1100; Washington, DC 20006.

Synopsis: The amendment changes the name of NYKCool AB to Cool Carriers AB and makes related conforming changes.

Agreement No.: 012326.

Title: CSCL/HSD Slot Charter Agreement

Parties: China Shipping Container Lines Co., Ltd. and China Shipping Container Lines (Hong Kong) Co., Ltd. (acting as a single party); and Hamburg Sud.

Filing Party: Patricia M. O'Neill; Blank & Rome LLP; 600 New Hampshire Ave., NW., Washington, DC 20037.

Synopsis: The agreement authorizes Hamburg Sud to charter slots on services operated by CSCL in the trade between China and Korea, on the one hand, and the U.S. West Coast on the other hand.

Agreement No.: 012327.

Title: “K” Line/WHL/WHS/PIL Space Charter and Sailing Agreement

Parties: Kawasaki Kisen Kaisha, Ltd.; Wan Hai Lines (Singapore) PTE Ltd.; Wan Hai Lines Ltd.; Pacific International Lines (PTE) Ltd.

Filing Party: Eric. C. Jeffrey, Esq.; Nixon Peabody LLP; 401 9th Street NW, Suite 900; Washington, DC 20004.

Synopsis: The agreement authorizes the parties to operate a joint service in the trade between the U.S. West Coast on the one hand, and China (including Hong Kong) and Japan on the other hand.

By Order of the Federal Maritime Commission.
Dated: April 10, 2015.
Rachel E. Dickon,
Assistant Secretary.

[FR Doc. 2015-08644 Filed 4-14-15; 8:45 am]

BILLING CODE 6731-AA-P